DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Field Representative Exit Questionnaire.

Form Number(s): BC-1294, BC-1294(D).

Agency Approval Number: 0607-0404.

Type of Request: Reinstatement, with change, of an expired collection.

Burden: 59 hours.

Number of Respondents: 500.

Avg Hours Per Response: BC-1294-7 minutes; BC-1294(D)-10 minutes.

Needs and Uses: Field interviewers are the foundation of Census Bureau data collection programs. Retention of trained field interviewing staff is a major concern for the Census Bureau because of both the monetary costs associated with employee turnover, as well as the potential impact on data quality. High turnover among interviewers can result in a reduction in the quality of data collected as well as increases in the cost of collecting data. In a continuous effort to devise policies and practices aimed at reducing turnover among interviewers, the Census Bureau collects data on the reasons interviewers leave the Census Bureau. The exit questionnaires (Forms BC-1294 and BC-1294(D)) are used to collect data from a sample of former current survey interviewers (field representatives) and decennial census interviewers (enumerators).

The purpose of the exit questionnaires is to determine the reasons for interviewer turnover and what the Census Bureau might have done or can do to influence them not to leave. As the demographics of our labor force, the nature of the surveys conducted, and the environment in which surveys take place continue to change, it is important that we continue to examine the interviewers' concerns. Information provided by respondents to the exit questionnaire provides insight on the measures the Census Bureau might take to decrease turnover and is useful in helping to determine if the reasons for interviewer turnover appear to be systemic or localized. The exit questionnaires seek reasons interviewers quit, inquires about motivational factors that would have kept the interviewers from leaving, identify training program strengths and weaknesses as they impact on the decision to quit, identify supervisory style strengths and weaknesses as they impact on the decision to leave, and identify the impact of pay and other working conditions on the interviewer's decision to leave the job. The exit questionnaires have been shown to be useful and we want to continue their use.

Both exit questionnaires have been revised since the last request for clearance to improve clarity in the wording of some questions. Some answer categories that are no longer germane have been deleted or replaced. Some questions have been removed. Changes to the exit questionnaires were made based on lessons learned and feedback on the current forms.

Affected Public: Individuals or households.

Frequency: One time.

Respondent's Obligation: Voluntary.

Legal Authority: 5 U.S.C. 3101; 13 U.S.C., 23.

OMB Desk Officer: Susan Schechter, (202) 395-5103.

Copies of the above information collection proposal can be obtained by calling or writing Madeleine Clayton, Departmental Paperwork Clearance Officer, (202) 482-3129, Department of Commerce, room 6608, 14th and Constitution Avenue, NW, Washington, DC 20230 (or via the Internet at mclayton@doc.gov).

Written comments and recommendations for the proposed information collection should be sent within 30 days of publication of this notice to Susan Schechter, OMB Desk Officer, room 10201, New Executive Office Building, Washington, DC 20503.

Dated: March 26, 2002.
Madeleine Clayton,
Departmental Paperwork Clearance Officer, Office of the Chief Information Officer.

[FR Doc. 02-7543 Filed 3-28-02; 8:45 am]

BILLING CODE 3510-07-P